INTERNATIONAL TRADE COMMISSION

[Investigation No. 337-TA-1124]

Institution of Investigation: Certain Powered Cover Plates

AGENCY: U.S. International Trade Commission.

ACTION: Notice.

SUMMARY: Notice is hereby given that a complaint was filed with the U.S. International Trade Commission on June 20, 2018, under section 337 of the Tariff Act of 1930, as amended, on behalf of SnapRays, LLC d/b/a SnapPower of Vineyard, Utah. Supplements to the Complaint were filed on July 6, July 11, and July 12, 2018. The complaint, as supplemented, alleges violations of section 337 based upon the importation into the United States, the sale for importation, and the sale within the United States after importation of certain powered cover plates by reason of infringement of U.S. Patent No. 9,871,324 (“the '324 patent”); U.S. Patent No. 9,917,430 (“the '430 patent”); U.S. Patent No. 9,882,361 (“the '361 patent”) and U.S. Design Patent No. D819,426 (“the '426 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on July 17, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1, 4, 8, 9, 10, 13, 16, 17, and 19 of the '324 patent; claims 1-3, 7, 8, 18, and 19 of the '430 patent; claims 1, 3, 4, 10, 14, 17, 21, 23, and 24 of the '361 patent; and the sole claim of the '426 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “powered cover plates, which are electrical receptacle covers with built-in functionality”;

(3) For the purpose of the investigation so instituted, the following are hereby named as parties upon which this notice of investigation shall be served:

(a) The complainant is: SnapRays, LLC d/b/a SnapPower, 426 East 1750 North, Unit D, Vineyard, UT 84057.

(b) The respondents are the following entities alleged to be in violation of section 337, and are the parties upon which the complaint is to be served:

Ontel Products Corporation, 21 Law Dr., Fairfield, NJ 07871

Dazone LLC, 1141 East Acacia Ct., Ontario, CA 91761-4519

Shenzhen C-Myway, Saige Science Park #4, Futian, Shenzhen, Guangdong, China

E-Zshop4u LLC, 9335 San Jose Blvd., Howey in the Hills, FL 34737

Desteny Store, 10840 Tiberio Dr., Fort Meyers, FL 33913

Zhongshan Led-Up Light Co. Ltd., 6016A, Bldg. B5, No. 133, Yunhan Rd., Qijiang Rd., Shaxi Town, Zhongshan, Guangdong, China

AllTrade Tools LLC, 6122 KateIla Ave., Cypress, CA 90630

Guangzhou Sailu Info Tech. Co., Ltd., Nan Hang Huo Yun Da Lou Yuan Nei Can, 3 Hao YunXiao Lu, Bai Yun Qu 510400, Guangzhou Gunagdong China

NEPCI—Zhejiang New-Epoch, Communication Industry Co., Ltd., Develop Road, Wengyang Industry Zone, Yueging, Zhejiang, China

KCC Industries, 4950 Goodman Way, Eastvale, CA 91752-5087

Vistek Technology Co., Ltd., Rm 605, No. 278 Yongzheng Bldg., Defeng Rd., Fuyong, Baoan, Shenzhen, China 518103

Enstant Technology Co., Ltd., A525 Boaoan Smart Valley, YinTian Rd, Xixiang Baoan District, Shenzhen, China 518105

Manufacturers Components Incorporated, 1721 Blount Road, #2, Pompano Beach, FL 33069

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 18, 2018.
Lisa Barton,
Secretary to the Commission.

[FR Doc. 2018-15695 Filed 7-20-18; 8:45 am]

BILLING CODE 7020-02-P